DEPARTMENT OF AGRICULTURE

Agricultural Research Service

Notice of Intent to Grant Exclusive License

AGENCY: Agricultural Research Service, USDA.

ACTION: Notice of intent.

SUMMARY: Notice is hereby given that the U.S. Department of Agriculture, Forest Service, intends to grant to Weckworth Manufacturing, Inc. of Wichita, Kansas, an exclusive license to U.S. Patent No. 5,921,388, “Quick Deployment Fire Shelter,” issued on July 13, 1999. Notice of Availability of this invention for licensing was published in the Federal Register on August 23, 1999.

DATES: Comments must be received by November 29, 2001.

ADDRESSES: Send comments to: Janet I. Stockhausen, USDA Forest Service, One Gifford Pinchot Drive, Madison, Wisconsin 53705-2398.

FOR FURTHER INFORMATION CONTACT: Janet I. Stockhausen of the USDA Forest Service at the Madison address given above; telephone: 608-231-9502; fax: 608-231-9508; or e-mail: jstockhausen@fs.fed.us.

SUPPLEMENTARY INFORMATION: The Federal Government's patent rights to this invention are assigned to the United States of America, as represented by the Secretary of Agriculture. It is in the public interest to so license this invention as Weckworth Manufacturing, Inc. has submitted a complete and sufficient application for a license. The prospective license will be royalty-bearing and will comply with the terms and conditions of 35 U.S.C. 209 and 37 CFR 404.7. The prospective exclusive license may be granted unless, within thirty (30) days from the date of this published Notice, the Forest Service receives written evidence and argument which establishes that the grant of the license would not be consistent with the requirements of 35 U.S.C. 209 and 37 CFR 404.7.

Michael D. Ruff,
Assistant Administrator.

[FR Doc. 01-27100 Filed 10-29-01; 8:45 am]

BILLING CODE 3410-03-P